DEPARTMENT OF TRANSPORTATION

Pipeline and Hazardous Materials Safety Administration

49 CFR Part 195

[Docket No. PHMSA-2008-0186; Amdt. No. 195-96]

RIN 2137-AE36

Pipeline Safety: Applying Safety Regulations to All Rural Onshore Hazardous Liquid Low-Stress Lines, Correction

AGENCY: Pipeline and Hazardous Materials Safety Administration (PHMSA); DOT.

ACTION: Final rule; correction.

SUMMARY: PHMSA is correcting a final rule that appeared in the Federal Register on May 5, 2011 (76 FR 25576). That final rule amended the Federal Pipeline Safety Regulations to address rural low-stress hazardous liquid pipelines that were not covered previously by safety regulations. This document corrects an error in the final rule regarding the compliance date for identifying all segments of a Category 3 low-stress pipeline.

DATES: This correction takes effect on October 1, 2011.

FOR FURTHER INFORMATION CONTACT: For technical information contact Mike Israni by phone at 202-366-4571 or by e-mail at Mike.Israni@dot.gov. For all other information contact Tewabe Asebe by phone at 202-366-4595 or by e-mail at Tewabe.Asebe@dot.gov.

SUPPLEMENTARY INFORMATION: In FR Doc. 2011-10778, published in the Federal Register of May 5, 2011, PHMSA published a final rule titled “Pipeline Safety: Applying Safety Regulations to All Rural Onshore Hazardous Liquid Low-Stress Lines.” This final rule published with an error on page 25587 which incorrectly identified July 1, 2011, as the compliance deadline for identification of Category 3 low-stress lines. This correction changes that date to July 1, 2012.

In FR Doc. 2011-10778 appearing on page 25576 in the Federal Register of Thursday, May 23, 2011, the following correction is made:

§ 195.12 [Corrected]

1. On page 25587, in the third column, in paragraph (c)(3)(i), “July 1, 2011” is corrected to read “July 1, 2012”.

Issued in Washington, DC, on July 14, 2011.
Cynthia L. Quarterman,
Administrator.

[FR Doc. 2011-18322 Filed 7-20-11; 8:45 am]

BILLING CODE 4910-60-P